DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 81 FR 10874-10875 dated March 2, 2016).

This notice reflects organizational changes in the Health Resources and Services Administration (HRSA), Office of Federal Assistance Management (RJ). Specifically, this notice: (1) Establishes the Office of Operations and Management (RJA); (2) establishes the Office of Data and Organizational Management (RJB); and (3) updates the functional statement for the Office of Federal Assistance Management (RJ) in its entirety.

Chapter RJ—Office of Federal Assistance Management

Section RJ-00, Mission

The Office of Federal Assistance Management (OFAM) through strategic direction and collaborative efforts provides leadership in the awarding and oversight of federal funds and related activities that advance the HRSA mission.

Section RJ-10, Organization

Delete the organization for the Office of Federal Assistance Management in its entirety and replace with the following:

The Office of Federal Assistance Management (RJ) is headed by the Associate Administrator, who reports directly to the Administrator, Health Resources and Services Administration. The Office of Federal Assistance Management includes the following components:

(1) Office of the Associate Administrator (RJ);

(2) Office of Operations Management (RJA);

(3) Office of Data and Organizational Management (RJB);

(4) Division of Financial Integrity (RJ1);

(5) Division of Grants Policy (RJ2);

(6) Division of Grants Management Operations (RJ3); and

(7) Division of Independent Review (RJ4).

Section RJ-20, Functions

This notice reflects organizational changes in the Health Resources and Services Administration (HRSA), Office of Federal Assistance Management (RJ). Specifically, this notice: (1) Establishes the Office of Operations and Management (RJA); (2) establishes the Office of Data and Organizational Management (RJB); and (3) updates the functional statement for the Office of Federal Assistance Management (RJ) in its entirety.

Delete the function for the Office of Federal Assistance Management, and replace in its entirety.

Office of Federal Assistance Management (RJ)

The Office of Federal Assistance Management (OFAM) provides national leadership in the administration and assurance of the financial integrity of HRSA's programs and provides oversight over HRSA activities to ensure that HRSA's resources are being properly used and protected. Provides leadership, direction, and coordination to all phases of grants policy, administration, and independent review of Competitive grant applications. Specifically: (1) Serves as the Administrator's principal source for grants policy and financial integrity of HRSA programs; (2) exercises oversight over the Agency's business processes related to assistance programs; (3) facilitates, plans, directs, and coordinates the administration of HRSA grant policies and operations; (4) directs and carries out the independent review of grant applications for all of HRSA's programs; (5) exercises the responsibility within HRSA for grant and cooperative agreement receipt, award, and post-award processes; and (6) plans, directs plus manages the electronic systems and business operations that enable staff to perform their day-to-day work.

Office of Operations Management (RJA)

Plans, directs and coordinates OFAM-wide administrative management activities. Specifically: (1) Serves as the principal source for administrative operations advice and assistance; (2) provides guidance and coordinates personnel activities for OFAM; (3) provides organization and management analysis, coordinating the allocation of personnel resources, developing policies and procedures for internal operations, interpreting and implementing OFAM management policies and procedures and systems; (4) develops and coordinates OFAM administrative delegations of authority activities (5) lead, plan, and coordinate all OFAM budgetary activities, such as contracts, procurements and inter-agency agreements, as well as, provides guidance and support to OFAM leadership in these areas; (6) provides OFAM-wide support services such as travel coordination, supply management, equipment utilization, printing, property management, space management, records management, and management reports; (7) coordinates OFAM administrative management activities with other components within HRSA and HHS, and with other Federal agencies, as appropriate; and (8) provides overall support for OFAM's continuity of operations and emergency support.

Office of Data and Organizational Management (RJB)

The Office of Data and Organizational Management provides strategic management and direction for OFAM-wide efforts addressing organizational and staff development, communication and outreach, business operations and data analysis and evaluation. Specifically: (1) Develops and manages multi-year strategic plans; (2) develops and manages OFAM performance measures; (3) provides management guidance on organizational process improvement within OFAM and its divisions as needed; (4) provides guidance on organizational capacity needs for human resources; (5) provides guidance to OFAM managers to plan strategic direction for OFAM staff development, including guidance to OFAM managers for leadership development and staff engagement; (6) develops, implements and manages OFAM's communication plan; (7) provides strategic direction on the use of communication tools, formats, resources to reach internal and external audiences; (8) manages and maintains current data on all electronic sites; (9) provides targeted outreach to non-federal award recipients; and (10) manages and provides guidance on Executive Secretariat processes, Standard Operating Procedures, and routine internal communications.

Division of Financial Integrity (RJ1)

The Division of Financial Integrity: (1) Coordinates Agency-wide efforts addressing HHS's Program Integrity Initiative/Enterprise Risk Management; (2) serves as the Agency's focal point for resolving audit findings on HRSA programs resulting from the Single Audits and special reviews; (3) conducts financial and compliance reviews of non-federal entities use of HRSA funds; (4) conducts the pre-award financial assessment of HRSA non-federal entities; (5) conducts the pre-award and post-award review of grant applicant's and non-federal entities financial soundness and management including accounting systems for managing federal grants; (6) conducts ad hoc studies and reviews related to the financial integrity of the HRSA business processes related to assistance programs; (7) serves as the Agency's liaison with the Office of Inspector General for issues related to HRSA programs; (8) coordinates non-federal entities appeal actions for the Department on HRSA decisions related to HRSA programs; (9) coordinates the preparation of informational reports on high risk non-federal entities; (10) coordinates contractor audit/financial assessment assignments; (11) responds to data requests; (12) serves as the HRSA liaison with the Department on the Single Audit Compliance Supplement update; (13) conducts internal audits; and (14) serves as the outreach to HRSA staff and non-federal entities to increase monitoring efforts for non-federal entities.

Division of Grants Policy (RJ2)

The Division of Grants Policy (DGP) analyzes, develops and implements HRSA's federal assistance award policy in compliance with statutes, regulations, Government-wide administrative requirements and Departmental policy. The DGP recommends internal procedures to ensure consistent and effective stewardship of taxpayer dollars.

Division of Grants Management Operations (RJ3)

The Division of Grants Management Operations exercises responsibility within HRSA for all business aspects of grant and cooperative agreement award and post-award processes, and participates in the planning, development, and implementation of policies and procedures for grants and other federal financial assistance mechanisms. Specifically: (1) Plans, directs and carries out the grants officer functions for all of HRSA's grant programs as well as awarding official functions for various scholarship, loan, and loan repayment assistance programs; (2) participates in the planning, development, and implementation of policies and procedures for grants and cooperative agreements; (3) provides assistance and technical consultation to program offices and grantees in the application of laws, regulations, policies, and guidelines relative to the Agency's grant and cooperative agreement programs; (4) develops standard operating procedures, methods, and materials for the administration of the Agency's grants programs; (5) establishes standards and guides for grants management operations; (6) reviews grantee financial status reports and prepares reports and analyses on the grantee's use of funds; (7) provides technical assistance to applicants and grantees on financial and administrative aspects of grant projects; (8) provides data and analyses as necessary for budget planning, hearings, operational planning, and management decisions; (9) participates in the development of program guidance and instructions for grant competitions; (10) oversees contracts in support of receipt of applications, records management, and grant closeout operations; and (11) supports post-award monitoring and closeout by analyzing payment management system data and working with grants and program office staff.

Division of Independent Review (RJ4)

The Division of Independent Review is responsible for the management and oversight of HRSA's independent review of grant and cooperative agreement applications for funding. Specifically: (1) Plans, directs, and carries out HRSA's independent review of applications for grants and cooperative agreement funding, and assures that the process is fair, open, and competitive; (2) develops, implements, and maintains policies and procedures necessary to carry out the Agency's independent review/peer review processes; (3) provides technical assistance to independent reviewers ensuring that reviewers are aware of and comply with appropriate administrative policies and regulations; (4) provides technical advice and guidance to the Agency regarding the independent review processes; (5) coordinates and assures the development of program policies and rules relating to HRSA's extramural grant activities; and (6) provides HRSA's Offices and Bureaus with the final disposition of all reviewed applications.

Delegations of Authority

All delegations of authority and re-delegations of authority made to HRSA officials that were in effect immediately prior to this reorganization, and that are consistent with this reorganization, shall continue in effect pending further re-delegation.

This reorganization is effective upon date of signature.

Dated: March 28, 2016.
James Macrae,
Acting Administrator.

[FR Doc. 2016-07882 Filed 4-5-16; 8:45 am]

BILLING CODE 4165-15-P